DEPARTMENT OF JUSTICE

Notice of Lodging of Consent Decree Under the Comprehensive Environmental Response, Compensation and Liability Act

Notice is hereby given that on May 10, 2010, a proposed Consent Decree (the “Decree”) in United States v. Precious Metals, Inc., Civil Action No. 1:10-cv-02387 (JEI-AMD), was lodged with the United States District Court for the District of New Jersey.

In a complaint, filed simultaneously with the Decree, the United States alleges that Precious Metals, Inc. is liable pursuant to Section 107(a)(3) of the Comprehensive Environmental Response, Compensation and Liability Act (“CERCLA”), 42 U.S.C. 9607(a)(3), for response costs incurred by the Environmental Protection Agency (“EPA”) in cleaning up the Pioneer Smelting Superfund Site located at Factory Road, Route 532, in Chatsworth, New Jersey.

Pursuant to the Decree, Precious Metals will make an initial payment of $70,000 and then a contingency payment not to exceed $80,000. The exact amount of the contingency payment will be based on Precious Metals, Inc. financial capabilities three months after the Consent Decree has been entered by the Court. The payments will resolve any claim the United States has against Precious Metals, Inc. associated with costs incurred by EPA at the Pioneer Smelting Superfund Site.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Precious Metals, Inc., D.J. Ref. 90-11-2-09344/2.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-12325 Filed 5-21-10; 8:45 am]

BILLING CODE 4410-CW-P